NATIONAL FOUNDATION ON THE ARTS AND THE HUMANITIES

Meeting of the National Museum Services Board

AGENCY: Institute of Museum and Library Services.

ACTION: Notice of meeting.

SUMMARY: This notice sets forth the agenda of a forthcoming meeting of the National Museum Services Board. This notice also describes the function of the board. Notice of this meeting is required under the Government through the Federal Advisory Committee Act (5 U.S.C. App.) and regulations of the Institute of Museum and Library Services, 45 CFR 1180.84.

TIME/DATE: 2:00-4:00 pm on Wednesday, April 4, 2001.

STATUS: Open.

ADDRESSES: The Library of The Lady Bird Johnson Wildflower Center, 4801 La Crosse Avenue, Austin, TX 78739, (512) 292-4200.

FOR FURTHER INFORMATION CONTACT: Elizabeth Lyons, Special Assistant to the Director, Institute of Museum and Library Services, 1100 Pennsylvania Avenue, NW, Room 510, Washington DC 20506, (202) 606-4649.

SUPPLEMENTARY INFORMATION: The National Museum Services Board is established under the Museum Services Act, Title II of the Arts, Humanities, and Cultural Affairs Act of 1976, Public Law 94-462. The Board has responsibility for the general policies with respect to the powers, duties, and authorities vested in the Institute under the Museum Services Act.

The meeting on Wednesday, April 4, 2001 will be open to the public. If you need special accommodations due to a disability, please contact: Institute of Museum and Library Services, 1100 Pennsylvania Avenue, NW, Washington, DC 20506, (202) 606-8536—TDD (202) 606-8636 at least seven (7) days prior to the meeting date.

Agenda

81st Meeting of the National Museum Services Board in The Library of The Lady Bird Johnson Wildflower Center, 4801 La Crosse Avenue, Austin, TX 78739, on Wednesday, April 4, 2001

2:00 p.m.-4:00 p.m.

I. Chairman's Welcome

II. Approval of Minutes from the 80th NMSB Meeting

III. Director's Report

IV. Staff Reports

(a) Office of Management and Budget

(b) Office of Public and Legislative Affairs

(c) Office of Technology and Research

(d) Office of Museum Services

(e) Office of Library Services

V. Old Business

• Reauthorization update

• General Operating Support Grants: Continued Discussion

Dated: March 15, 2001.
Linda Bell,
Director of Policy, Planning and Budget, National Foundation on the Arts and Humanities, Institute of Museum and Library Services.

[FR Doc. 01-6973 Filed 3-20-01; 8:45 am]

BILLING CODE 7036-01-M